FEDERAL RETIREMENT THRIFT INVESTMENT BOARD

Employee Thrift Advisory Council

TIME AND DATE: 10 a.m. (EST), October 9, 2012.

PLACE: 10th Floor Training Room, 77 K Street NE., Washington, DC 20002.

STATUS: Open.

MATTERS TO BE CONSIDERED:

1. Approval of the April 30, 2012 Minutes

2. Report of the Executive Director on Thrift Savings Plan status

3. Legislative Update

4. Presentation on New Forms of Participant Outreach

5. New Business

CONTACT PERSON FOR MORE INFORMATION: Kim Weaver, Director, Office of External Affairs, (202) 942-1640.

Dated: September 28, 2012.
James B. Petrick,
General Counsel, Federal Retirement Thrift Investment Board.

[FR Doc. 2012-24381 Filed 10-2-12; 8:45 am]

BILLING CODE 6760-01-P